DEPARTMENT OF COMMERCE

Request for Comments on the Strategic Plan to Advance Environmental Justice

AGENCY: Commerce.

ACTION: Notice of availability, request for comments.

SUMMARY: The Department of Commerce (Commerce) and the Department of Commerce Environmental Justice Committee seeks public comment to inform its Strategic Plan to Advance Environmental Justice (Strategy). Commerce is seeking input from the public, especially people and communities with environmental justice concerns who are potentially affected by Commerce activities including planning, regulatory actions, implementation, permitting, compliance, and enforcement related to human health or the environment.

DATES: Written comments are requested on or before October 18, 2024 and must be received no later than 11:59 p.m. eastern time (ET) on that date. Written submissions received after that date may not be considered. Commerce will not reply individually to responders but will consider all comments submitted by the deadline.

ADDRESSES:

Instructions: You may submit comments for 30 days, identified by DOC-2024-0009 by the following methods:

Online (Strongly Preferred) Submit all electronic public comments via the Federal e-Rulemaking Portal. Go to https://www.regulations.gov and enter DOC-2024-0009 in the Search.

Email: Comments submitted by email to swatling@doc.gov should be machine-readable and should not be copy-protected.

Requirements for Submissions

To be assured of consideration, submit any written comments by the October 18, 2024 deadline. All submissions must be in English. Commerce strongly encourages submissions via regulations.gov. The docket number is DOC-2024-0009.

To submit via regulations.gov, use Docket Number DOC-2024-0009 in the `search for' field on the home page and click `search'. The site will provide a search results page listing all documents associated with this docket. Find a reference to this notice by selecting `notice' under `document type' in the `refine documents results' section on the left side of the screen and click on the link entitled `comment'. Regulations.gov allows users to make submissions by filling in a `type comment' field, or by attaching a document using the `upload file' field. Commerce prefers that you provide submissions in an attached document named according to the following protocol, as appropriate: Commenter Name or Organization and “Commerce Environmental Justice Strategy”. If you provide submissions in an attached document, please type `see attached comments' in the `comment' field on the online submission form.

Please include the name, email address, and telephone number of an individual Commerce can contact if there are issues or questions with the submission. You will receive a tracking number upon completion of the submission procedure at Regulations.gov. The tracking number is confirmation that Regulations.gov received your submission. Keep the confirmation for your records.

Business Confidential Information Submissions

Please do not submit any confidential information; such information may be posted and become part of the public record.

Public Viewing of Review Submissions

Commerce will post written submissions in the docket for public inspection. You can view comments on Regulations.gov by entering Docket Number DOC-2024-0009 in the search field on the home page.

Commerce is not able to provide technical assistance for regulations.gov. For further information on using regulations.gov, please consult the resources provided on the website by clicking on `How to Use Regulations.gov' on the bottom of the home page. You can contact the regulations.gov help desk at regulationshelpdesk@gsa.gov or 1-866-498-2945 for help with technical questions on submitting comments on regulations.gov.

If you are unable to submit through regulations.gov after seeking assistance from the help desk, please contact Sarah Watling at swatling@doc.gov before transmitting your application and in advance of the deadline to arrange for an alternative method of transmission. Commerce will not accept hand-delivered submissions. Commerce may not consider submissions that you do not make in accordance with these instructions.

FOR FURTHER INFORMATION CONTACT: Sarah Watling, Resilience, Climate Adaptation, and Environmental Justice Program Manager, telephone 202-875-9023; or emails at swatling@doc.gov

Please direct media inquiries to Department of Commerce, Office of the Secretary Main Office of Public Affairs, publicaffairs@doc.gov.

SUPPLEMENTARY INFORMATION:

Background

Executive Order (E.O.) 14096 on Revitalizing Our Nation's Commitment to Environmental Justice for All advances the Federal government's efforts to deliver real, measurable progress on environmental justice.¹ E.O.14096, issued on April 21, 2023, charges Federal agencies to exercise leadership and immediately strengthen their efforts to address environmental injustice. The order makes clear that the pursuit of environmental justice is a duty of all executive branch agencies and that agencies should be taking actions now to incorporate this charge into their missions.² Agency strategic planning under the order will play a key role in fulfilling E.O.14096's mandate of revitalizing the commitment of all Federal agencies to advance environmental justice.

¹ E.O.14096, Revitalizing Our Nation's Commitment to Environmental Justice for All, 88 FR 25251 (April 21, 2023), https://www.federalregister.gov/documents/2023/04/26/2023-08955/revitalizing-our-nationscommitment-to-environmental-justice-for-all.

² The White House, Fact Sheet: President Biden Signs Executive Order to Revitalize Our Nation's Commitment to Environmental Justice for All (April 21, 2023), https://www.whitehouse.gov/briefing-room/statementsreleases/2023/04/21/fact-sheet-president-biden-signs-executive-order-to-revitalize-our-nations-commitment-toenvironmental-justice-for-all/.

E.O.14096 directs all Federal agencies in the executive branch to develop Environmental Justice Strategic Plans (Strategic Plans) that are tied to specific performance and accountability measures outlined in section 4 of E.O. 14096. As such, Strategic Plans are vital to pursuing a whole-of-government approach to environmental justice. Commerce recognizes the importance of an inclusive review and feedback process to inform this Strategy. The Department of Commerce's Strategy seeks to catalyze a new era of transparency, consistency, and accountability for environmental justice.

Other topics in E.O. 14096 are being addressed separately by Commerce and other agencies. This request for information pertains solely to collecting feedback on the proposed strategic goals. The public is encouraged to provide input in response to the questions listed to help the Commerce understand the potential environmental justice impact of its Strategy.

E.O. 14096 section 4(b) directs Federal agencies to set forth the agency's vision, goals, priority actions, and metrics to address and advance environmental justice. The Strategic Plan shall identify and address opportunities through regulations, policies, permits, or other means to improve accountability and compliance with any statute the agency administers that affects the health and environment of communities with environmental justice concerns. Among those actions, section 4(a) directs Commerce to create a Strategic Plan no later than 18 months after the date of the E.O. and every 4 years thereafter. The Strategic Plan shall be submitted to the Chair of the White House Council on Environmental Quality (CEQ) and made available to the public online.

To assist in these endeavors, Commerce requests information from the public on the goals and objectives provided below.

Goal 1: Center just treatment and meaningful involvement of communities with environmental justice concerns in decision-making.

a. Broaden the participation of communities with environmental justice concerns in decision-making processes to better reflect community priorities.

b. Improve collaboration and two-way communication between the Department of Commerce, state, Tribal, insular areas, local governments, and communities with environmental justice concerns to expand access to information on planning, regulations, and enforcement related to human health, access to resources and the environment.

c. Base decision-making on equitably collected and inclusive data that ensures representation of pertinent information from communities potentially affected by agency level actions.

Goal 2: Use targeted investments, programs and research to advance environmental justice and support communities impacted by the climate crisis.

a. Ensure overall benefits of certain federal investments reach disadvantaged communities that are marginalized and overburdened by pollution and underinvestment through the Justice40 Initiative, CHIPS, and additional environmental justice programs.

b. Promote inclusive research approaches and methods to integrate diverse perspectives and data sources in environmental justice efforts.

c. Carry out environmental reviews under the National Environmental Policy Act (NEPA) in a manner that advances environmental justice, including considering disproportionate and adverse effects of proposed actions on communities with environmental justice concerns.

Goal 3: Harness data to identify, address, and mitigate environmental disparities, ensuring equitable access to resources and opportunities for underserved communities.

a. Analyze gaps and inadequacies in data and research related to the climate crisis and environmental justice.

b. Develop procedures for equitable data access, transparency and accountability to expand opportunities for communities with environmental justice concerns

c. Create a centralized environmental justice reporting repository to monitor environmental justice implementation and make it publicly available.

Goal 4: Institutionalize Environmental Justice in Programs, Policies, Procedures and Activities.

a. Identify and address environmental justice concerns in agency programs, policies, procedures and activities.

b. Incorporate environmental justice principles into employee training programs to ensure that all staff understand their role in promoting environmental justice and are equipped with the necessary tools and knowledge.

c. Expand and promote department-wide capacity for environmental justice through training employees, incorporating it into relevant work plans, and hiring staff with environmental justice expertise.

Request for Written Comments

This notice is intended to improve Commerce's understanding of public views on how the Department should advance environmental justice. This notice is a general solicitation for public comments and further sets forth specific topics for discussion and comment. Commerce seeks broad input from all interested stakeholders, including people and communities with environmental justice concerns as well as the public. Commenters are encouraged to address the following and may comment with general views or provide specific information about a specific topic. Responses may be formatted as the commenter prefers.

Comments will be reviewed by Commerce staff and as appropriate, Commerce contractors, and may be used to inform the agency's work on advancing environmental justice.

Topics

To help guide input, Commerce would appreciate feedback on the following five questions:

1. Do the draft environmental justice strategic goals address general interests and concerns about the advancement of environmental justice by Commerce? Why or why not?

2. What actions should Commerce undertake to advance environmental justice?

3. What performance measures or metrics should Commerce establish to monitor progress towards advancing environmental justice?

4. What are examples of successful collaborations between Federal agencies and Tribal, territorial, local, and State governments or communities with environmental justice concerns?

5. How can Commerce better engage and collaborate effectively with Tribes, both federally and non-federally recognized, Native Hawaiian organizations, and Indigenous Peoples, including Indigenous migrant communities?

Dated: September 12, 2024.
Sarah E. Watling,
Resilience, Climate Adaptation, and Environmental Justice Program Office, Department of Commerce.

[FR Doc. 2024-21121 Filed 9-17-24; 8:45 am]

BILLING CODE 3510-60-P